BUREAU OF CONSUMER FINANCIAL PROTECTION

[Docket No: CFPB-2014-0023]

Agency Information Collection Activities: Comment Request

AGENCY: Bureau of Consumer Financial Protection.

ACTION: Notice and request for comment.

SUMMARY: In accordance with the Paperwork Reduction Act of 1995 (PRA), the Consumer Financial Protection Bureau (Bureau) is proposing a new information collection titled, “Owning a Home Evaluation Study.”

DATES: Written comments are encouraged and must be received on or before November 25, 2014 to be assured of consideration.

ADDRESSES: You may submit comments, identified by the title of the information collection, OMB Control Number (see below), and docket number (see above), by any of the following methods:

• Electronic: http://www.regulations.gov. Follow the instructions for submitting comments.

• Mail: Consumer Financial Protection Bureau (Attention: PRA Office), 1700 G Street NW., Washington, DC 20552.

• Hand Delivery/Courier: Consumer Financial Protection Bureau (Attention: PRA Office), 1275 First Street NE., Washington, DC 20002.

Please note that comments submitted by fax or email and those submitted after the comment period will not be accepted. In general, all comments received will be posted without change to regulations.gov, including any personal information provided. Sensitive personal information, such as account numbers or social security numbers, should not be included.

FOR FURTHER INFORMATION CONTACT: Documentation prepared in support of this information collection request is available at www.regulations.gov. Requests for additional information should be directed to the Consumer Financial Protection Bureau, (Attention: PRA Office), 1700 G Street NW., Washington, DC 20552, (202) 435-9575, or email: PRA@cfpb.gov. Please do not submit comments to this mailbox.

SUPPLEMENTARY INFORMATION: Title of Collection: Owning a Home Evaluation Study.

OMB Control Number: 3170-XXXX.

Type of Review: New Collection (Request for a new OMB control number).

Affected Public: Individuals or households.

Estimated Number of Respondents: 47,500.

Estimated Total Annual Burden Hours: 9,961.

Abstract: The Dodd Frank Act directs the Bureau to develop a program of consumer education and engagement. As part of that program, the Bureau has developed a suite of online tools and resources to help consumers make better, more informed decisions about mortgages. Collectively, these tools and resources are known as the Owning a Home project.

The purpose of this information collection is to evaluate and improve the Owning A Home project. The Bureau seeks to gain insights as to (1) whether and how the Owning a Home project impacts consumers; (2) which consumer segments or profiles benefit the most from the Owning a Home project; (3) the mechanisms by which the Owning a Home project impacts consumer behavior and attitudes; (4) general consumer behavior, attitudes, and approaches to obtaining a mortgage and mortgage shopping; (5) the validity of certain hypotheses underlying the development of the Owning a Home project.

To answer these questions, the Bureau intends to conduct a field study of the Owning a Home project. We will recruit prospective homebuyers and assign them to one of two study groups: those exposed to the Owning a Home tools or resources (the treatment groups) and those not exposed to Owning a Home (the control group). We will survey both groups of homebuyers as they go through the process of shopping for and acquiring a mortgage, and we will track the treatment group's usage of the Owning a Home web tools and resources. We will then compare the two groups' attitudes, behaviors, and outcomes.

Request For Comments: Comments are invited on: (a) Whether the collection of information is necessary for the proper performance of the functions of the Bureau, including whether the information will have practical utility; (b) The accuracy of the Bureau's estimate of the burden of the collection of information, including the validity of the methods and the assumptions used; (c) Ways to enhance the quality, utility, and clarity of the information to be collected; and (d) Ways to minimize the burden of the collection of information on respondents, including through the use of automated collection techniques or other forms of information technology. Comments submitted in response to this notice will be summarized and/or included in the request for Office of Management and Budget (OMB) approval. All comments will become a matter of public record.

Dated: September 15, 2014.
Ashwin Vasan,
Chief Information Officer, Bureau of Consumer Financial Protection.

[FR Doc. 2014-23017 Filed 9-25-14; 8:45 am]

BILLING CODE 4810-AM-P